SECURITIES AND EXCHANGE COMMISSION

[Release No. 3306; File No.: 801-35969]

Investment Advisers Act of 1940; In the Matter of Creative Investment Research, Inc., 1050 17th Street NW., Suite 1000, Washington, DC 20036; Notice of Intention to Cancel Registration Pursuant to Section 203(h) of the Investment Advisers Act of 1940

October 24, 2011.

Correction

In notice document 2011-27900, appearing on pages 67005-67006 in the issue of October 28, 2011, make the following correction:

On page 67005, in the second column, the subject heading should read as set forth above.

[FR Doc. C1-2011-27900 Filed 11-9-11; 8:45 am]

BILLING CODE 1505-01-D